ENVIRONMENTAL PROTECTION AGENCY

[FRL-9924-63-OA]

Notification of a Public Meeting of the Science Advisory Board Drinking Water Committee

AGENCY: Environmental Protection Agency.

ACTION: Notice.

SUMMARY: The Environmental Protection Agency (EPA) Science Advisory Board (SAB) Staff Office announces a meeting of the Drinking Water Committee (DWC) to review the EPA's Draft Fourth Contaminant Candidate List (CCL4) published on February 4, 2015).

DATES: The public meeting will be held on April 29, 2015, from 9:00 a.m. to 5:00 p.m. (Eastern Standard Time) and on April 30, 2015, from 9:00 a.m. to 3:30 p.m. (Eastern Standard Time).

ADDRESSES: The public meeting will be held at the George Washington University, Milken Institute School of Public Health, 950 New Hampshire Ave. NW., 7th Floor, Washington, DC 20052.

FOR FURTHER INFORMATION CONTACT: Any member of the public who wants further information concerning this public meeting may contact Ms. Stephanie Sanzone, Designated Federal Officer (DFO) for the Drinking Water Committee, EPA Science Advisory Board Staff Office (1400R), U.S. Environmental Protection Agency, 1200 Pennsylvania Avenue NW., Washington, DC 20460; by telephone at (202) 564-2067 or via email at sanzone.stephanie@epa.gov. General information concerning the EPA SAB can be found at http://www.epa.gov/sab.

SUPPLEMENTARY INFORMATION: Background: The SAB was established pursuant to the Environmental Research, Development, and Demonstration Authorization Act (ERDDAA), codified at 42 U.S.C. 4365, to provide independent scientific and technical advice to the Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Drinking Water Committee will hold a public meeting to review the EPA Draft Fourth Contaminant Candidate List (CCL4) (February 4, 2015). The committee will provide advice to the Administrator through the chartered SAB.

EPA's Office of Water requested that the SAB Drinking Water Committee review the Draft Fourth Contaminant List (CCL4), which was released for public review and comment on February 4, 2015 (80 FR 6076). The Safe Drinking Water Act (SDWA), as amended in 1996, requires EPA, after consultation with the scientific community including the Science Advisory Board and opportunity for public comment, to publish a list every five years of currently unregulated contaminants that are known or anticipated to occur in public water systems and may require regulation under the SDWA (referred to as the Contaminant Candidate List, or CCL). This list is subsequently used to identify priority contaminants for further research needs and to make determinations on whether or not to regulate at least five contaminants from the CCL with national primary drinking water regulations (NPDWRs) (SDWA section 1412(b)(1)). The draft CCL4 includes 100 chemicals or chemical groups and 12 microbial contaminants. Additional information about this SAB advisory activity can be found at the following URL http://yosemite.epa.gov/sab/sabproduct.nsf/fedrgstr_activites/CCL%204?OpenDocument.

Technical Contacts: Any technical questions concerning EPA's draft CCL4 should be directed to Ms. Meredith Russell in the EPA Office of Water, by telephone at (202) 564-0814 or by email at Russell.Meredith@epa.gov.

Availability of Meeting Materials: Prior to the meeting, the review documents, agenda and other materials will be accessible through the calendar link on the blue navigation bar at http://www.epa.gov/sab/. Materials may also be accessed at the URL provided above.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Interested members of the public may submit relevant information on the topic of this advisory activity, and/or the group conducting the activity, for the SAB to consider during the advisory process. Input from the public to the SAB will have the most impact if it provides specific scientific or technical information or analysis for SAB committees and panels to consider or if it relates to the clarity or accuracy of the technical information. Members of the public wishing to provide comment should contact the DFO directly. Oral Statements: In general, individuals or groups requesting an oral presentation at the meeting will be limited to five minutes. Interested parties wishing to provide comments should contact Ms. Sanzone, DFO, in writing (preferably via email) at the contact information noted above by April 22, 2015, to be placed on the list of public speakers for the meeting. Written Statements: Written statements will be accepted throughout the advisory process; however, for timely consideration by Committee members, statements should be supplied to the DFO (preferably via email) at the contact information noted above by April 22, 2015. It is the SAB Staff Office general policy to post written comments on the Web page for advisory meetings. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Ms. Sanzone at the contact information provided above. To request accommodation of a disability, please contact Ms. Sanzone preferably at least ten days prior to the meeting to give EPA as much time as possible to process your request.

Dated: March 12, 2015.
Thomas H. Brennan,
Deputy Director, EPA Science Advisory Board Staff Office.

[FR Doc. 2015-06222 Filed 3-17-15; 8:45 am]

BILLING CODE 6560-50-P